DEPARTMENT OF STATE

[Public Notice: 10898]

Determination Pursuant to Section 7041(a)(3)(B) of the Department of State, Foreign Operations, and Related Programs Appropriations Act, 2018

By virtue of the authority vested in me as Secretary of State pursuant to section 7041(a)(3)(B) of the Department of State, Foreign Operations, and Related Programs Appropriations Act, 2018 (Div. K, Pub. L. 115-141) (the “Act”), I hereby determine that it is important to the National Security interest of the United States to waive the certification requirement under section 7041(a)(3)(A) of the Act. I hereby waive that requirement.

This determination shall be published in the Federal Register and shall be reported to Congress, along with the accompanying Memorandum of Justification.

Dated: August 8, 2019.
Michael R. Pompeo,
Secretary of State.

[FR Doc. 2019-20513 Filed 9-20-19; 8:45 am]

BILLING CODE 4710-31-P